DEPARTMENT OF LABOR

Employment and Training Administration

[TA-W-65,612]

Signature Aluminum, Greenville, PA; Notice of Termination of Investigation

Pursuant to Section 221 of the Trade Act of 1974, as amended, an investigation was initiated on March 17, 2009 in response to a petition filed on behalf of workers of Signature Aluminum, Greenville, Pennsylvania.

The petitioners have requested that the petition be withdrawn. Therefore, the investigation under this petition has been terminated.

Signed at Washington, DC, this 31st day of March, 2009.
Linda G. Poole,
Certifying Officer, Division of Trade Adjustment Assistance.

[FR Doc. E9-10232 Filed 5-4-09; 8:45 am]

BILLING CODE 4510-FN-P